DEPARTMENT OF TRANSPORTATION

Office of the Secretary

48 CFR Chapter 12

[Docket No. OST-2004-19899]

RIN 2105-AD28

Re-issuance of the Department of Transportation Acquisition Regulation

AGENCY: Office of the Secretary, DOT.

ACTION: Final rule.

SUMMARY: The Department of Transportation is converting the interim final rule published in the Federal Register at 70 FR 6506, on February 7, 2005 to a final rule with changes to amend the Transportation Acquisition Regulation (TAR) due to internal organization changes and the need for minor editorial changes. No comments were received on this rule. This final rule replaces the 1994 edition of the Transportation Acquisition Regulation (TAR) with the 2004 edition.

DATES: This rule is effective January 26, 2006.

FOR FURTHER INFORMATION CONTACT: Elaine Wheeler, Office of the Senior Procurement Executive, M-60, 400 Seventh Street, SW., Washington, DC 20590: (202) 366-4272.

SUPPLEMENTARY INFORMATION:

I. Background

The Department did not receive any comments to its interim final rule on this subject. Accordingly, the interim final rule amending 48 CFR Chapter 12 which was published at 70 FR 6505 on February 7, 2005, is adopted as a final rule without substantive change.

On February 21, 2005, the Department of Transportation was reorganized by, among other changes, establishing two new operating administrations. This is an internal organizational change to the Department not requiring public comment. This final rule includes a change in nomenclature to ensure that the rule includes the present names of DOT operating administrations. In addition, there are few minor editorial corrections.

List of Subjects in 48 CFR Parts 1201, 1202, 1217, 1228, 1252

Government procurement.

This final rule is issued under the delegated authority of the Senior Procurement Executive pursuant to 49 CFR 1.50a(a)(1).

Issued this 16th day of December 2005 at Washington, DC.
David J. Litman,
Senior Procurement Executive.

Interim Final Rule Adopted as Final With Changes. Accordingly, DOT adopts the interim final rule which was published in the Federal Register at 70 FR 6506, February 7, 2005, as a final rule with the following changes:

1. The authority citation for 48 CFR parts 1201, 1202, 1217, 1228, and 1252 continues to read as follows:

Authority: 5 U.S.C. 301; 41 U.S.C. 418(b); (FAR) 48 CFR 1.3.

PART 1201—FEDERAL ACQUISITION REGULATIONS SYSTEM

2. In 48 CFR 1201.105-2, paragraph (a) is amended by:

A. Adding “PHMSA” and “RITA” in alphabetic order to the list of acronyms; and

B. Removing “RSPA” from the list of acronyms. The additions read as follows:

§ 1201.105-2 Arrangement of regulations.

* * * * *

(a) General. * * *

PHMSA—Pipeline and Hazardous Materials Safety Administration

RITA—Research and Innovative Technology Administration

* * * * *

PART 1202—DEFINITIONS

3. In 48 CFR 1202.1, the definition for Operating Administration (OA) is amended by revising paragraphs (9) and (10) and adding a new paragraph (11) to read as follows:

§ 1202.1 Definitions.

* * * * *

Operating Administration (OA) means the following components of DOT: * * *

(9) Pipeline and Hazardous Materials Safety Administration (PHMSA).

(10) Research and Innovative Technology Administration (RITA).

(11) Saint Lawrence Seaway Development Corporation (SLSDC).

* * * * *

PART 1217—SPECIAL CONTRACTING METHODS

§ 1217.7001 [Amended]

4. Amend § 1217.7001(e) by deleting the words “(TAR) 48 CFR 1252.217”—and adding in their place the words “(TAR) 48 CFR 1252.217-75.”

PART 1228—BONDS AND INSURANCE

5. In § 1228.306-70, revise paragraph (d) to read as follows:

§ 1228.306-70 Contracts for lease of aircraft.

* * * * *

(d) 49 U.S.C. provides that an aircraft lessor under a lease of 30 days or more is not liable for injury or death of persons, or damage or loss of property unless the aircraft is in the actual possession or control of the lessor and the damage occurs because of the aircraft engine, propeller or the flight of, or an object falling from the aircraft, engine or propeller.

* * * * *

PART 1252—SOLICITATION PROVISIONS AND CONTRACT CLAUSES

6. Revise the heading to part 1252 to read as set forth above.

§ 1252.217-75 [Amended]

7. In § 1252.217-75, introductory text, remove the reference “(TAR) 48 CFR 1217.7001(c) and (d)” and insert the reference “(TAR) 48 CFR 1217.7001(c) and (e)” in its place.

8. Revise the Appendix to Part 1252 to read as follows:

Appendix to Part 1252—Tar Matrix

BILLING CODE 4910-62-P

[FR Doc. 05-24405 Filed 12-23-05; 8:45 am]

BILLING CODE 4910-62-C